DEPARTMENT OF THE INTERIOR

National Park Service

[NPS-WASO-NAGPRA-NPS0038348; PPWOCRADN0-PCU00RP14.R50000]

Notice of Inventory Completion: Tennessee Department of Conservation and Environment, Division of Archaeology, Nashville, TN

AGENCY: National Park Service, Interior.

ACTION: Notice.

SUMMARY: In accordance with the Native American Graves Protection and Repatriation Act (NAGPRA), and in response to claims from the Chickasaw Nation dated December 22, 2023, the Tennessee Department of Conservation and Environment, Division of Archaeology (TDEC-TDOA) has completed an inventory of human remains from Benton County, Tennessee and has determined in consultation that there is a cultural affiliation between the human remains and Indian Tribes or Native Hawaiian organizations in this notice.

DATES: Repatriation of the human remains in this notice may occur on or after August 29, 2024.

ADDRESSES: Phillip R. Hodge, Tennessee Department of Environment and Conservation, Division of Archaeology, 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-TDOA, and additional information on the determinations in this notice, including the results of consultation, can be found in its inventory or related records. The National Park Service is not responsible for the determinations in this notice.

Abstract of Information Available

Human remains representing at minimum eight individuals have been identified. No associated funerary objects are present.

“Eva Mo #6,” Benton County, TN

Ancestral remains of at minimum four individuals were donated to the TDEC-TDOA on March 9, 1989. No records exist as to the timing, donor, or circumstances of this donation. The specific geographical location of this site was originally reported to National NAGPRA as “unknown.” The Chickasaw Nation claimed these ancestors on December 22, 2023, and consultation took place on May 2, 2024. In consultation, The Chickasaw Nation requested that the geographical location be updated to Benton County, Tennessee. There is no known exposure to hazardous substances or treatments.

Cypress Creek Area, Nathan Bedford Forrest State Park, Benton County, TN

Ancestral remains of at minimum one individual were donated to the TDEC-TDOA on September 8, 1990. No records exist as to the timing, donor, or circumstances of this donation. The specific geographical location of this site was originally reported to National NAGPRA only as “Cypress Creek, NBSP.” The Chickasaw Nation claimed these ancestors on December 22, 2023, and consultation took place on May 2, 2024. In consultation, The Chickasaw Nation requested that the geographical location be updated to Benton County, Tennessee. There is no known exposure to hazardous substances or treatments.

Tennessee River Near Big Sandy, Benton County, TN

Ancestral remains of at minimum one individual were donated to the TDEC-TDOA in June 2008 by a private individual. No further records exist as to the timing or circumstances of this donation. This ancestor had not been previously reported to National NAGPRA, but was identified during TDEC-TDOA inventory efforts in 2024 and presented to The Chickasaw Nation in consultation on May 2, 2024. In consultation, The Chickasaw Nation requested that this ancestor be included in the current claim. There is no known exposure to hazardous substances or treatments.

Site U-3-T and U-12-T, Benton County, TN

In 2021, the TDEC-TDOA accepted donation of a collection of artifacts from more than 30 sites located in Tennessee. During curation efforts in January 2024, ancestral remains were identified within surface collected artifacts from two Benton County sites. These remains include a minimum of one individual per site. These ancestors had not been previously reported to National NAGPRA. In consultation on May 2, 2024, The Chickasaw Nation requested that these ancestors be included in the current claim.

Hazardous substances or treatments consisting of rat poison were observed within the donated storage containers.

Cultural Affiliation

Based on the information available and the results of consultation, reasonably identified by the geographical location of the human remains in this notice.

Determinations

TDEC-TDOA has determined that:

• The human remains described in this notice represent the physical remains of eight individuals of Native American ancestry.

• There is a connection between the human remains described in this notice and The Chickasaw Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 29, 2024. If competing requests for repatriation are received, TDEC-TDOA must determine the most appropriate requestor prior to repatriation. Requests for joint repatriation of the human remains are considered a single request and not competing requests. TDEC-TDOA is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16704 Filed 7-29-24; 8:45 am]

BILLING CODE 4312-52-P